DEPARTMENT OF THE TREASURY

Office of Foreign Assets Control

Removal of Specially Designated Nationals and Blocked Persons Pursuant to the Cuban Assets Control Regulations

AGENCY: Office of Foreign Assets Control, Treasury.

ACTION: Notice.

SUMMARY: The Department of the Treasury's Office of Foreign Assets Control (OFAC) is publishing the names of 19 individuals whose names have been removed from the list of Specially Designated Nationals and Blocked Persons (SDN List) pursuant to the Cuban Assets Control Regulations, 31 CFR part 515.

DATES: The removal from the SDN List of the individuals identified in this notice is effective November 19, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

The SDN List and additional information concerning OFAC are available from OFAC's Web site (www.treas.gov/ofac). Certain general information pertaining to OFAC's sanctions programs is available via facsimile through a 24-hour fax-on-demand service, tel.: 202/622-0077.

Background

On November 19, 2015, the Associate Director of OFAC removed from the SDN List the individuals listed below, whose names were included on the SDN List pursuant to the Cuban Assets Control Regulations:

Individuals

1. AGUIAR, Raul [CUBA].

2. CHAO, Lazaro R. [CUBA].

3. IMPERATORI, Julio A. [CUBA].

4. LEBREDO, Jose A. [CUBA].

5. LOPEZ, Miguel A. [CUBA].

6. RODRIQUEZ, Jose Julio [CUBA].

7. TOLEDO, R.F. [CUBA].

8. TORRES, Manuel [CUBA].

9. VAZ, Jose [CUBA].

10. ALVAREZ AGUIRRE, Manuel [CUBA].

11. COLON BETANCOURT, Eduardo [CUBA].

12. LOBATO, Julio (a.k.a. PRADO, Julio) [CUBA].

13. PENA TORRES, Jose [CUBA].

14. REYES VERGARA, Guillermo [CUBA].

15. ROCHA, Antonio [CUBA].

16. RODRIQUEZ BORGES, Jesus (a.k.a. RODRIQUEZ BORJES, Jesus) [CUBA].

17. PEREZ CRUZ, Osvaldo [CUBA].

18. RUIZ POO, Ramon Miguel [CUBA].

19. TOSCO GARCIA, Arnaldo [CUBA].

Dated: November 19, 2015.
Gregory T. Gatjanis,
Associate Director, Office of Global Targeting, Office of Foreign Assets Control.

[FR Doc. 2015-30115 Filed 11-25-15; 8:45 am]

BILLING CODE 4810-AL-P